DEPARTMENT OF THE INTERIOR

Bureau of Land Management

[13X.LLAZP02000.L71220000.EU0000.LVTFA1358690.241A; AZA-33050]

Notice of Realty Action: Proposed Non-Competitive (Direct) Sale of Public Land in Gila County, AZ

AGENCY: Bureau of Land Management, Interior.

ACTION: Notice of realty action.

SUMMARY: The Bureau of Land Management (BLM) is proposing a non-competitive (direct) sale of 16.87 acres of public land in Gila County, Arizona, to Mrs. Barbara Lubich. The sale would take place under the provisions of Sections 203 of the Federal Land Policy and Management Act of 1976, as amended (FLPMA), at no less than the appraised fair market value.

DATES: Interested parties may submit written comments regarding the proposed direct sale on or before September 28, 2018.

ADDRESSES: Send public comments to Edward J. Kender, Field Manager, BLM Lower Sonoran Field Office, 21605 North 7th Avenue, Phoenix, AZ 85027. The BLM will not consider comments received in electronic form, such as email or facsimile. Detailed information concerning the proposed land sale, including an appraisal, a mineral report, and planning and environmental documents, are available for review at the BLM Lower Sonoran Field Office or by calling 623-580-5500 during normal business hours of 7:30 a.m.-4:15 p.m., Monday through Friday, except for Federal holidays. An Environmental Assessment that analyzes the impact from the proposed direct land sale is available on the BLM's ePlanning website at https://go.usa.gov/xQT2Z.

FOR FURTHER INFORMATION CONTACT: Jo Ann Goodlow, Realty Specialist, at the above address; phone: 623-580-5548; or by email at jgoodlow@blm.gov. Persons who use a telecommunications device for the deaf (TDD) may call the Federal Relay Service (FRS) at 1-800-877-8339 to contact the above individual during normal business hours. The FRS is available 24 hours a day, 7 days a week, to leave a message or question with the above individual. Replies will be made during normal business hours.

SUPPLEMENTARY INFORMATION: The BLM is considering a direct sale for the following parcel subject to the applicable provisions of Sections 203 of FLPMA, and 43 CFR parts 2711:

Gila and Salt River Meridian, Arizona

T. 1 N, R. 14 E,

Sec. 36, lot 16.

Containing 16.87 acres, more or less.

The BLM is proposing a non-competitive (direct) sale of approximately 16.87 acres of public lands, which will resolve an unauthorized occupancy on public lands predating mining regulations. The parcel proposed for sale is the smallest size possible to resolve the unauthorized occupancy. The BLM identified the parcel as suitable for disposal in the Lower Sonoran Record of Decision and Resource Management Plan, approved September 2012, decision LR-2.1.1, which allows for the disposal of public lands suitable for disposal via any disposal method, including through sale procedures, on a case-by-case basis. The direct sale proposal meets the criteria for disposal of public land in Section 203(a)(1), (d) and (f) of FLPMA and regulations in 43 CFR 2710.0-3(a)(3) and 43 CFR 2711.3-3(a)(5). The BLM proposes to offer the lands to Mrs. Barbara Lubich on a non-competitive basis pursuant to 43 CFR 2711.3-3(a)(5), because a direct sale would resolve the unauthorized occupancy of these lands and best serve the public interest.

Upon publication of this notice in the Federal Register, the above-described lands will be segregated from all forms of appropriation under the public land laws, including mining laws, except for the sale provisions of FLPMA. The segregation will terminate upon issuance of a patent, publication in the Federal Register of a termination of the segregation, or on August 14, 2020, by the BLM Arizona State Director in accordance with 43 CFR 2711.1-2(d) prior to the termination date.

Terms and Conditions: All minerals for the sale parcel will be reserved to the United States. The patent, when issued, will contain a mineral reservation to the United States for all minerals. To clarify this, mineral reservation as it relates to mineral materials, such as sand and gravel, interested parties will be referred to regulation 43 CFR 3601.71(b), which provides that the owner of the surface estate of lands with reserved Federal minerals may “use a minimal amount of mineral materials for . . . personal use” within the boundaries of the surface estate without a sales contract or permit. The regulation provides that all other use, absent statutory or other express authority, requires a sales contract or permit.

The public land would not be offered for sale to Mrs. Barbara Lubich until at least October 15, 2018, at no less than the appraised fair market value. A copy of the approved appraisal report is available at the address above, see ADDRESSES. The patent, when issued to Mrs. Barbara Lubich (who will become the patentee), will be subject to the following terms, conditions, and reservations:

1. A reservation of a right-of-way to the United States for ditches and canals constructed by authority of the United States under the Act of August 30, 1890 (43 U.S.C. 945);

2. All mineral deposits in the lands so patented, and to it, or persons authorized by it, the right to prospect for, mine, and remove such deposits from the same under applicable law and regulations to be established by the Secretary of the Interior are reserved to the United States, together with all necessary access and exit rights;

3. A condition that the conveyance be subject to valid existing rights of record, including right-of-way AZA-32517 to the Arizona Public Service Company, its successors or assigns, pursuant to the Act of October 21, 1976 (43 U.S.C. 1761);

4. An appropriate indemnification clause protecting the United States from claims arising out of the patentee's use, occupancy, or operations on the patented land; and

5. Additional terms and conditions that the authorized officer deems appropriate.

Any adverse comments regarding this sale will be reviewed by the BLM State Director or other authorized official of the Department of the Interior, who may sustain, vacate, or modify this realty action in whole or in part. In the absence of timely filed objections, this realty action will become the final determination of the Department of the Interior. Before including your address, phone number, email address, or other personally identifiable information in your comment, you should be advised that your entire comment—including your personal identifying information—may be made publicly available at any time. While you can ask us in your comment to withhold from public review your personal identifying information, we cannot guarantee that we will be able to do so.

(Authority: 43 CFR 2711.1-2)

Edward J. Kender,
Field Manager, Lower Sonoran Field Office.

[FR Doc. 2018-17385 Filed 8-13-18; 8:45 am]

BILLING CODE 4310-32-P